ENVIRONMENTAL PROTECTION AGENCY

40 CFR Part 55

[Alaska 001; FRL-6919-4]

Outer Continental Shelf Air Regulations Consistency Update for Alaska

AGENCY: Environmental Protection Agency (EPA).

ACTION: Proposed rule.

SUMMARY: EPA is proposing to update a portion of the Outer Continental Shelf (“OCS”) Air Regulations. Requirements applying to OCS sources located within 25 miles of states' seaward boundaries must be updated periodically to remain consistent with the requirements of the corresponding onshore area (“COA”), as mandated by section 328(a)(1) of the Clean Air Act, as amended in 1990 (“the Act”). The portion of the OCS air regulations that is being updated pertains to the requirements for OCS sources for which the State of Alaska is the designated COA. The intended effect of approving the OCS requirements is to regulate emissions from OCS sources in accordance with the requirements onshore.

EPA is incorporating State of Alaska Requirements Applicable to OCS Sources, July 2, 2000, into the OCS air regulations as a direct final rule without prior proposal because the Agency views this as a noncontroversial amendment and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period. Any parties interested in commenting on this action should do so at this time.

DATES: Written comments must be received in writing by April 2, 2001.

ADDRESSES: Written comments should be addressed to: Dan Meyer, EPA, Office of Air Quality (OAQ-107), 1200 Sixth Avenue, Seattle, WA 98101. Copies of documents relevant to this action are available for public inspection during normal business hours at the following locations: Office of Air Quality, U.S. Environmental Protection Agency, Region 10, 1200 Sixth Avenue, Seattle, WA 98101; Environmental Protection Agency (LE-6102), 401 “M” Street, SW., Room M-1500, Washington, DC 20460.

FOR FURTHER INFORMATION CONTACT: Dan Meyer, EPA, Office of Air Quality (OAQ-107), 1200 Sixth Avenue, Seattle, WA 98101, (206) 553-4150.

SUPPLEMENTARY INFORMATION: For additional information, see the direct final rule which is located in the rules section of this Federal Register.

Dated: December 8, 2000.
Charles E. Findley,
Acting Regional Administrator, Region 10.

[FR Doc. 01-692 Filed 2-28-01; 8:45 am]

BILLING CODE 6560-50-P